AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503. Copies of submission may be obtained by calling (202) 712-1365.

SUPPLEMENTARY INFORMATION: OMB Number: OMB 0412-0014

Form Number: AID 1550-6

Title: Voluntary Agency Quarterly Report of Shipping Activity.

Type of Submission: Renewal of Information Collection.

Purpose: The U.S. Agency for International Development's Ocean Freight program reimburses approved Private and Voluntary Organizations (PVOs) registered with the Agency for their transportation costs incurred when transporting donated goods overseas. To effectively monitor the program, USAID has developed a proposal solicitation package and a monitoring document to collect necessary information from qualified and interested PVOs.

Annual Reporting Burden:

Respondents: 50.

Total annual responses: 200.

Total annual hours requested: 3,200 hours.

Dated: January 22, 2003.
Joanne Paskar,
Chief, Information and Records Division, Office of Administrative Services, Bureau for Management.

[FR Doc. 03-1855 Filed 1-27-03; 8:45 am]

BILLING CODE 6116-01-M